NUCLEAR REGULATORY COMMISSION

[Docket Nos. 50-157 and 50-97]

Notice of Issuance of Decommissioning Amendments for Cornell University Triga Research Reactor (TRIGA) and Cornell University Zero Power Reactor (ZPR)

The Nuclear Regulatory Commission (NRC) has approved the Cornell University Ward Center for Nuclear Studies (WCNS) decommissioning plan (DP) by amendments to the Facility Operating Licenses for the TRIGA Research Reactor and the Zero Power Reactor (ZPR).

The WCNS is located on the Cornell University campus in Ithaca, New York. The WCNS was constructed between 1959 and 1962 to house the TRIGA, the ZPR, and supporting systems. The TRIGA Reactor ceased operations on April 21, 2003. The ZPR ceased operations in 1996.

The licensee submitted the WCNS DP to the NRC for review and approval in a letter dated August 22, 2003, as supplemented on May 13, September 27, October 26 and December 13, 2005, and February 13, 2006. The NRC approved the DP by Amendment No. 14 to the TRIGA Facility Operating License No. R-80 on June 15, 2006 and Amendment No. 8 to the ZPR Facility Operating License No. R-89 on June 6, 2006.

A “Notice and Solicitation of Comments Pursuant to 10 CFR 20.1405 and 10 CFR 50.82(b)(5) Concerning Proposed Action To Decommission WCNS at Cornell University Reactor Facility” was published in the Federal Register on August 10, 2005 (70 FR 46549). No comments were received.

Copies of the license amendments approving Cornell University's proposed decommissioning plan are available for public inspection at the Commission's Public Document Room (PDR), located at One White Flint North, 11555 Rockville Pike (first floor), Rockville, Maryland, 20855-2738. The NRC maintains an Agencywide Documents Access and Management System (ADAMS), which provides text and image files of NRC's public documents. The amendments may be accessed electronically from the ADAMS Public Electronic Reading Room on the Internet at the NRC Web site, http://www.nrc.gov/reading-rm/adams.html under ADAMS accession number ML061030501 and ML061030405. Persons who do not have access to ADAMS, or have problems in accessing the documents located in ADAMS, may contact the NRC PDR Reference staff by phone at 1-800-397-4209, 301-415-4737, or by e-mail to pdr@nrc.gov.

Dated at Rockville, Maryland, this 15 day of June, 2006.
For the Nuclear Regulatory Commission.
Brian E. Thomas,
Branch Chief, Research and Test Reactors Branch, Division of Policy and Rulemaking, Office of Nuclear Reactor Regulation.

[FR Doc. E6-12462 Filed 8-1-06; 8:45 am]

BILLING CODE 7590-01-P